DEPARTMENT OF AGRICULTURE

Forest Service

Forest Service Manual 2710 and Forest Service Handbook 2709.11; Special Uses; Use and Storage of Explosive Materials on National Forest System Lands Under Special Use Authorizations

AGENCY: Forest Service, USDA.

ACTION: Issuance of interim directives; notice of availability for public comment.

SUMMARY: The United States Department of Agriculture (USDA) Forest Service (Forest Service), is issuing interim directives on the use and storage of explosive materials on National Forest System lands as part of activities authorized under special use permits. The Forest Service has determined that some of the direction contained in these interim directives formulates standards, criteria, and guidelines applicable to Forest Service programs and is therefore subject to public notice and comment. The Forest Service has made a finding of good cause that an exigency exists to support issuance of the interim directives, which go into effect upon publication for public comment.

DATES: The interim directives are effective June 23, 2020. Comments must be received in writing by August 24, 2020.

ADDRESSES: Interim directives may be reviewed and electronic comments may be submitted electronically to https://cara.ecosystem-management.org/Public/CommentInput?project=ORMS-2226. Written comments may be mailed to Sean Wetterberg, National Winter Sports Program Manager, 125 South State Street, Suite 7105, Salt Lake City, UT 84138. All timely received comments, including names and addresses, will be placed in the record and will be available for public inspection and copying. The public may inspect comments received at https://cara.ecosystem-management.org/Public/ReadingRoom?project=ORMS-2226.

FOR FURTHER INFORMATION CONTACT: Sean Wetterberg, Winter Sports Program Manager, 801-975-3793 or sean.wetterberg@usda.gov. Individuals using telecommunication devices for the deaf may call the Federal Information Relay Service at 800-877-8339 between 8 a.m. and 8 p.m. Eastern Time, Monday through Friday.

SUPPLEMENTARY INFORMATION: The interim directive in Forest Service Manual 2710, section 2719, sets forth direction for Forest Service policy and responsibility relating to non-federal use and storage of explosives and military artillery and ordinance on National Forest System lands under special use authorizations. The interim directive at Forest Service Handbook 2709.11, Chapter 50, replaces existing clause B-29, Explosives, with new clause B-29, Storage and Use of Explosives and Magazine Security; clarifies the purpose of the new clause; specifies all types of special use authorizations that may authorize storage and use of explosives and therefore, may require inclusion of clause B-29; and describes implementation of the new clause.

The Forest Service has made a finding of good cause that an exigency exists to support issuance of the interim directives, which become effective upon publication for public comment. The interim directives make revisions regarding storage and use of explosives under special use authorizations, such as at Winter Sports Resorts and highway avalanche mitigation programs conducted by State transportation departments that enhance public safety on National Forest System lands and need to go into effect upon publication for public comment.

After the public comment period closes, the Forest Service will consider timely comments that are within the scope of the interim directives in the development of the final directives. A notice of the final directives, including a response to timely comments, will be posted on the Forest Service's web page at https://www.fs.fed.us/about-agency/regulations-policies.

Tina Johna Terrell,
Associate Deputy Chief, National Forest System.

[FR Doc. 2020-13509 Filed 6-22-20; 8:45 am]

BILLING CODE 3411-15-P